DEPARTMENT OF JUSTICE

Notice of Lodging of Proposed Consent Decree Under the Comprehensive Environmental Response, Compensation and Liability Act

On October 7, 2014, the Department of Justice lodged a proposed consent decree with the United States District Court for the District of Massachusetts in United States v. Boston and Maine Corporation and Massachusetts Bay Transportation Authority, Civil Action No. 1:14-cv-13804.

The proposed consent decree would resolve the claims of the United States for injunctive relief and recovery of response costs against the defendants under section 106 and 107(a) of the Comprehensive Environmental Response, Compensation, and Liability Act (“CERCLA”) relating to Operable Unit 4 of the Iron Horse Park Superfund Site in North Billerica, Massachusetts.

The consent decree requires the defendants to pay $1,560,570 to the United States. The consent decree also requires the defendants to perform the remedial action described in the Environmental Protection Agency's Record of Decision for Operable Unit 4, dated July 25, 2011, and further described in EPA's Explanation of Significant Differences, dated July 22, 2014. In return, the United States agrees to resolve the defendants' liability under Sections 106 and 107(a) of CERCLA for defined matters related to OperableUnit 4.

The publication of this notice opens a period for public comment on the consent decree. Comments should be addressed to the Assistant Attorney General, Environment and Natural Resources Division, and should refer to United States v. Boston and Maine Corporation and Massachusetts Bay Transportation Authority, D.J. Ref. No. 90-11-3-90/4. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $98.25 (25 cents per page reproduction cost) payable to the United States Treasury. For a copy without the exhibits, the cost is $13.75.

Maureen Katz,
Assistant Section Chief, Environmental Enforcement Section, Environment and Natural Resources Division.

[FR Doc. 2014-24306 Filed 10-10-14; 8:45 am]

BILLING CODE 4410-15-P